DEPARTMENT OF TRANSPORTATION

Federal Highway Administration

[Docket No. FHWA-2007-27951]

Agency Information Collection Activities: Request for Comments for New Information Collection

AGENCY: Federal Highway Administration (FHWA), DOT.

ACTION: Notice and request for comments.

SUMMARY: The FHWA has forwarded the information collection request described in this notice to the Office of Management and Budget (OMB) for approval of a new information collection. We published a Federal Register Notice with a 60-day public comment period on this information collection on February 12, 2005. We are required to publish this notice in the Federal Register by the Paperwork Reduction Act of 1995.

DATES: Please submit comments by May 21, 2007.

ADDRESSES: You may send comments within 30 days to the Office of Information and Regulatory Affairs, Office of Management and Budget, 725 17th Street, NW., Washington, DC 20503, Attention: DOT Desk Officer. You are asked to comment on any aspect of this information collection, including: (1) Whether the proposed collection is necessary for the FHWA's performance; (2) the accuracy of the estimated burden; (3) ways for the FHWA to enhance the quality, usefulness, and clarity of the collected information; and (4) ways that the burden could be minimized, including the use of electronic technology, without reducing the quality of the collected information. All comments should include the Docket number FHWA-2007-27951.

FOR FURTHER INFORMATION CONTACT: Mike Neathery, 202-366-1257 or Martin Weiss, 202-366-5010, Office of Interstate and Border Planning, Federal Highway Administration, Department of Transportation, 400 Seventh Street, SW., Washington, DC 20590. Office hours are from 8 a.m. to 5 p.m., Monday through Friday, except Federal holidays.

SUPPLEMENTARY INFORMATION: Title: Rural Transportation Research.

Background: Section 5513(f) of The Safe, Accountable, Flexible, Efficient Transportation Equity Act: A Legacy for Users of 2005 (SAFETEA-LU) provides a grant to the New England Transportation Institute (hence “the Institute”) in White River Junction, Vermont, to conduct rural transportation research. The Institute will undertake research and analysis in support of two research issues: (1) Rural Transportation Issues Definition and Refinement; and (2) Rural Transportation Safety and Health. The research includes a 2-part survey to develop information that will help support a “portrait” of present rural transportation patterns. Applying the concepts of both “mobility” and “accessibility” to the rural Northeast, the Institute's surveys will explore the issues of “rural isolation” and, driver travel behavior. The survey will address these questions:

• How serious a problem is rural isolation and perceptions of access (or lack thereof)?

• How are the economic forces acting on the rural areas affecting the manner, and length of trips in the rural Northeast?

• How are demographics going to change and/or influence the demands made on the transportation system?

• What would be the transportation implications of different settlement patterns?

Respondents: Approximately 800 respondents for survey 1 and 600 respondents for survey 2.

Frequency: One time.

Estimated Average Burden per Response: 30 minutes per survey.

Estimated Total Burden Hours: Approximate one time burden of 700 hours.

Electronic Access: Internet users may access all comments received by the U.S. DOT Dockets, Room PL-401, by using the universal resource locator (URL): http://dms.dot.gov, 24 hours each day, 365 days each year. Please follow the instructions online for more information and help.

Authority: The Paperwork Reduction Act of 1995; 44 U.S.C. Chapter 35, as amended; and 49 CFR 1.48.

Issued on: April 17, 2007.
James R. Kabel,
Chief, Management Programs and Analysis Division.

[FR Doc. E7-7560 Filed 4-19-07; 8:45 am]

BILLING CODE 4910-22-P